DEPARTMENT OF ENERGY

Federal Energy Regulatory Commission

[Docket No. IC16-6-000]

Commission Information Collection Activities (FERC-725J); Comment Request

AGENCY: Federal Energy Regulatory Commission, Department of Energy.

ACTION: Comment request.

SUMMARY: In compliance with the requirements of the Paperwork Reduction Act of 1995, 44 U.S.C. 3507(a)(1)(D), the Federal Energy Regulatory Commission (Commission or FERC) is submitting its information collection FERC-725J (Definition of the Bulk Electric System) to the Office of Management and Budget (OMB) for review of the information collection requirements. Any interested person may file comments directly with OMB and should address a copy of those comments to the Commission as explained below. The Commission previously issued a Notice in the Federal Register (81 FR 9179, 2/24/2016) requesting public comments. The Commission received no comments on the FERC-725J and is making this notation in its submittal to OMB.

Note: Commission staff has revised the burden table, added an information collection requirement, and revised the burden estimate.

DATES: Comments on the collection of information are due by June 13, 2016.

ADDRESSES: Comments filed with OMB, identified by the OMB Control No. 1902-0259, should be sent via email to the Office of Information and Regulatory Affairs: oira_submission@omb.gov. Attention: Federal Energy Regulatory Commission Desk Officer. The Desk Officer may also be reached via telephone at 202-395-0710.

A copy of the comments should also be sent to the Commission, in Docket No. IC16-6-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-725J, Definition of the Bulk Electric System.

OMB Control No.: 1902-0259.

Type of Request: Three-year extension of the FERC-725J information collection requirements with no changes to the reporting requirements.

Abstract: On December 20, 2012, the Commission issued Order No. 773, a Final Rule approving NERC's modifications to the definition of “bulk electric system” and the Rules of Procedure exception process to be effective July 1, 2013. On April 18, 2013, in Order No. 773-A, the Commission largely affirmed its findings in Order No. 773. In Order Nos. 773 and 773-A, the Commission directed NERC to modify the definition of bulk electric system in two respects: (1) Modify the local network exclusion (exclusion E3) to remove the 100 kV minimum operating voltage to allow systems that include one or more looped configurations connected below 100 kV to be eligible for the local network exclusion; and (2) modify the exclusions to ensure that generator interconnection facilities at or above 100 kV connected to bulk electric system generators identified in inclusion I2 are not excluded from the bulk electric system.

Type of Respondents: Generator owners, distribution providers, other NERC-registered entities.

Estimate of Annual Burden: ¹ The Commission estimates the annual public reporting burden ² for the information collection as:

¹ The Commission defines burden as the total time, effort, or financial resources expended by persons to generate, maintain, retain, or disclose or provide information to or for a Federal agency. For further explanation of what is included in the information collection burden, reference 5 Code of Federal Regulations 1320.3.

² The FERC-725J information collection no longer includes reporting burden for “System Review and List Creation” and “Regional and ERO Handling of Exception Requests”. These two response categories were part of the reporting burden in Years 1 and 2 of the FERC-725J implementation and have been completed.

³ The hourly cost figure (wages plus benefits) comes from the Bureau of Labor Statistics (http://www.bls.gov/oes/current/naics2_22.htm). The figure is for an electric engineer ($62.38, Occupational Code: 17-2071), file clerk ($30.53, Occupational Code: 43-4071), and a lawyer (129.12, Occupational Code: 23-0000); the calculation is as follows: 60 hours of burden * $62.38 = $3,743; 32 hours * $30.53 = $977; 2 hours * $129.12 = $258. $3,743 + $977 + $258 = $4,978.

⁴ The hourly cost figure of $62.38 (wages plus benefits) comes from the Bureau of Labor Statistics (http://www.bls.gov/oes/current/naics2_22.htm). The figure is for an electric engineer (Occupational Code: 17-2071).

⁵ The hourly cost figure (wages plus benefits) comes from the Bureau of Labor Statistics (http://www.bls.gov/oes/current/naics2_22.htm). The figure is a weighted average comprised of hourly figures for an electric engineer ($62.38, Occupational Code: 17-2071), file clerk ($30.53, Occupational Code: 43-4071), and a lawyer (129.12, Occupational Code: 23-0000); the calculation is as follows: 60 hours of burden * $62.38 = $3,743; 8 hours * $30.53 = $244; 24 hours * $129.12 = $3,099. $3,743 + $244 + $3,099 = $7,086.

FERC-725J
[Definition of the bulk electric system]
| Number of respondents | Annual number of responses per respondent | Total number of responses | Average burden and cost per response | Total annual burden hours and total annual cost | Cost per respondent ($)
| (1) | (2) | (1) * (2) = (3) | (4) | (3) * (4) = (5) | (5) ÷ (1)
Generator Owners, Distribution Providers, and Transmission Owners (Exception Request) | 20 | 1 | 20 | 94 hrs.; $4,978 ³ | 1,880 hrs.; $99,560 | $4,978
All Registered Entities (Implementation Plans and Compliance) | 186 | 1 | 186 | 350 hrs.; $21,833 ⁴ | 65,100 hrs.; $4,060,938 | 21,833
Local Distribution Determinations | 8 | 1 | 8 | 92 hrs.; 7,086 ⁵ | 736 hrs.; $56,688 | 7,086
Total |  |  | 214 |  | 67,716 hrs.; $4,217,186 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 5, 2016.
Kimberly D. Bose,
Secretary.

[FR Doc. 2016-11228 Filed 5-11-16; 8:45 am]

BILLING CODE 6717-01-P